DEPARTMENT OF COMMERCE

Foreign-Trade Zones Board

[B-90-2013]

Foreign-Trade Zone 1 and 111—New York, New York; Application for Merger and Reorganization Under Alternative Site Framework

An application has been submitted to the Foreign-Trade Zones (FTZ) Board by the City of New York, grantee of FTZ 1 and 111, requesting authority to reorganize under the alternative site framework (ASF) adopted by the FTZ Board (15 CFR Sec. 400.2(c)) and merge FTZ 1 and FTZ 111 under FTZ 1. The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on October 21, 2013.

FTZ 1 was approved by the FTZ Board on January 30, 1936 (Board Order 2) and reorganized/expanded on February 23, 1942 (Board Order 7, 7 FR 2074, 3/14/1942), March 23, 1942 (Board Order 8, 7 FR 2883, 4/17/1942), June 23, 1943 (Board Order 9, 8 FR 8885, 6/29/1943), November 18, 1943 (Board Order 10, 9 FR 1917, 2/18/1944), December 12, 1945 (Board Order 11, 10 FR 15190, 12/19/1945), October 17, 1946 (Board Order 14, 11 FR 12588, 10/25/1947), August 25, 1950 (Board Order 23, 15 FR 5920, 8/31/1950), October 16, 1951 (Board Order 26, 16 FR 10829, 10/24/1951), May 19, 1967 (Board Order 73, 32 FR 7726, 5/26/1967), September 26, 1972 (Board Order 89, 37 FR 20893, 10/4/1972), June 27, 1974 (Board Order 99, 39 FR 24541, 7/3/1974), September 25, 1978 (Board Order 134, 43 FR 45424, 10/2/1978), and November 16, 1998 (Board Order 1010, 63 FR 65171, 11/25/1998).

FTZ 1 currently includes the following sites: Site 1 (23 acres)—Building 77, Brooklyn Navy Yard, Brooklyn; Site 2 (352 acres)—Howland Hook Marine Terminal Facility and Port Ivory Factory, North Washington/Western Avenues and Richmond Terrace/Western Avenue, Staten Island; Site 3 (.55 acres)—International Gem Tower, 50 West 47th Street, New York; Site 4 (.5 acres)—Malca Amit, 153-66 Rockaway Boulevard, Jamaica; and, Site 5 (.57 acres)—World Diamond Tower, 580 5th Avenue, New York.

FTZ 111 was approved by the FTZ Board on November 30, 1984 (Board Order 280, 49 FR 48203, 12/11/1984). FTZ 111 currently consists of one site: Site 1 (1,713 acres)—JFK International Airport—Cargo Center, Main Terminal Complex, Queens.

The grantee's proposed service area under the ASF would be New York, Bronx, Kings, Queens, and Richmond Counties, New York, as described in the application. If approved, the grantee would be able to serve sites throughout the service area based on companies' needs for FTZ designation. The proposed service area is within and adjacent to the New York/Newark and John F. Kennedy International Airport Customs and Border Protection ports of entry.

The applicant is requesting authority to reorganize the zones under the ASF, to merge FTZ 1 and FTZ 111, and to include Sites 1-3 and 5 of FTZ 1 and Site 1 of FTZ 111 as “magnet” sites. The applicant is also requesting that Site 4 of FTZ 1 be included as a “usage-driven site” and that Site 1 of FTZ 111 be renumbered as Site 6 of FTZ 1 in the merged zone. The ASF allows for the possible exemption of one magnet site from the “sunset” time limits that generally apply to sites under the ASF, and the applicant proposes that Site 1 of FTZ 1 be so exempted.

In accordance with the FTZ Board's regulations, Elizabeth Whiteman of the FTZ Staff is designated examiner to evaluate and analyze the facts and information presented in the application and case record and to report findings and recommendations to the FTZ Board.

Public comment is invited from interested parties. Submissions shall be addressed to the FTZ Board's Executive Secretary at the address below. The closing period for their receipt is December 24, 2013. Rebuttal comments in response to material submitted during the foregoing period may be submitted during the subsequent 15-day period to January 8, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Elizabeth Whiteman at Elizabeth.Whiteman@trade.gov or (202) 482-0473.

Dated: October 21, 2013.
Elizabeth Whiteman,
Acting Executive Secretary.

[FR Doc. 2013-25211 Filed 10-24-13; 8:45 am]

BILLING CODE 3510-DS-P